DEPARTMENT OF HEALTH AND HUMAN SERVICES

Health Resources and Services Administration

Council on Graduate Medical Education

AGENCY: Health Resources and Services Administration (HRSA), HHS.

ACTION: Notice.

SUMMARY: Pursuant to the Federal Advisory Committee Act (Pub. L. 92-463), notice is hereby given that the Council on Graduate Medical Education (COGME) has been rechartered. The charter will expire on September 30, 2006.

FOR FURTHER INFORMATION CONTACT: Jerald M. Katzoff, Deputy Executive Secretary, COGME, Division of Medicine and Dentistry, Bureau of Health Professions, HRSA, Room 9A-27, Parklawn Building, 5600 Fishers Lane, Rockville, Maryland 20857, Telephone (301) 443-6326.

Dated: May 25, 2005.
Steven A. Pelovitz,
Associate Administrator, Office of Administration and Financial Management.

[FR Doc. 05-10915 Filed 6-1-05; 8:45 am]

BILLING CODE 4165-15-P